Title 3—

The President

Proclamation 8994 of June 14, 2013

National Small Business Week, 2013

By the President of the United States of America

A Proclamation

In America, we believe that anyone willing to work hard and take risks can get their good idea off the ground and into the marketplace. It is a notion that has made our Nation bold and bright, and the best place to do business for generations—from small-town storefronts to pioneering startups that keep our country on the cutting edge. This week, we celebrate America's entrepreneurial spirit, and we recommit to helping our small businesses get ahead.

My Administration has been a proud partner in that important work from day one. We have cut taxes for small businesses 18 times, broadened their access to capital, and provided billions in loans so they can grow and hire. We have helped companies break into new markets abroad and export their products all over the world. Every step of the way, we have focused on making Government work better for business through initiatives like Startup America and BusinessUSA—groundbreaking programs that connect entrepreneurs to resources that can spur their success.

Together, we can build on that progress. At a time when abusive patent litigation is stifling economic growth and putting companies of all sizes at risk, my Administration is taking action to protect innovators and keep our patent system strong. To create more opportunities for small businesses to compete and win in the global marketplace, we are moving forward on a Trans-Pacific Partnership that will boost our exports and level the playing field for American workers. We are implementing the Affordable Care Act so small businesses can make quality, affordable health insurance available to all their employees. And in the months ahead, we will continue pushing for tax reform that supports small businesses and keeps them at the forefront of our economic recovery.

America's small businesses reflect the best of who we are as a Nation—daring and innovative, courageous and hopeful, always working hard and looking ahead for that next great idea. They are our economy's engine and our biggest source of new jobs. So this week, as entrepreneurs across our country keep striving to turn their dreams into reality, let us keep investing in them and doing everything we can to help our small businesses succeed.

NOW, THEREFORE, I, BARACK OBAMA, President of the United States of America, by virtue of the authority vested in me by the Constitution and the laws of the United States, do hereby proclaim June 16 through June 22, 2013, as National Small Business Week. I call upon all Americans to recognize the contributions of small businesses to the competitiveness of the American economy with appropriate programs and activities.

IN WITNESS WHEREOF, I have hereunto set my hand this fourteenth day of June, in the year of our Lord two thousand thirteen, and of the Independence of the United States of America the two hundred and thirty-seventh.

[FR Doc. 2013-14968

Filed 6-19-13; 11:15 am]

Billing code 3295-F3